DEPARTMENT OF ENERGY

Federal Energy Regulatory Commission

[Docket No. EC00-63-000, et al.]

Sierra Pacific Power Company, et al.; Electric Rate and Corporate Regulation Filings

September 8, 2000.

Take notice that the following filings have been made with the Commission:

1. Sierra Pacific Power Company, Nevada Power Company and Portland General Electric Company

[Docket No. EC00-63-000]

Take notice that on August 25, 2000, Sierra Pacific Power Company (Sierra), Nevada Power Company (Nevada Power) and Portland General Electric Company (PGE) (collectively Applicants) filed additional information in support of their application for approval of their proposed merger as required by the July 26, 2000 Commission order in Sierra Pacific Power Co., Nevada Power Co., and Portland General Electric Co., Order Establishing Further Proceedings, 92 FERC ¶ 61,069 (2000).

Comment date: October 25, 2000, in accordance with Standard Paragraph E at the end of this notice.

2. American National Power, Inc.

[Docket No. EC00-133-000]

Take notice that on September 1, 2000, pursuant to Section 203 of the Federal Power Act, 16 U.S.C. § 824b (1998) and Part 33 of the Regulations of the Federal Energy Regulatory Commission (Commission), 18 CFR 33 et seq., American National Power, Inc. (Applicant) filed an Application for Commission approval for the transfer of upstream ownership interests in certain subsidiaries.

Comment date: September 22, 2000, in accordance with Standard Paragraph E at the end of this notice.

3. Enron Sandhill Limited Partnership

[Docket No. EG00-253-000]

Take notice that on September 5, 2000, Enron Sandhill Limited Partnership (ESLP), a limited liability company with its principal place of business at 1400 Smith Street, Houston, Texas 77002, filed with the Federal Energy Regulatory Commission (Commission) an application for determination of exempt wholesale generator status pursuant to Part 365 of the Commission's regulations.

ESLP states that it will be engaged directly and exclusively in the business of owning a portion of a generation facility consisting of four 50 MW nameplate capacity gas turbines located in Austin, Texas. ESLP will sell its capacity exclusively at wholesale.

Comment date: September 29, 2000, in accordance with Standard Paragraph E at the end of this notice. The Commission will limit its consideration of comments to those that concern the adequacy or accuracy of the application.

4. Calcasieu Power, LLC

[Docket No. ER00-3292-001]

Take notice that on September 1, 2000, Calcasieu Power, LLC (Calcasieu) tendered for filing amendments to its proposed tariff for Emergency Redispatch Service filed with the Commission on July 28, 2000 in the above-referenced docket. The tariff sets forth the compensation for the dispatch of the Calcasieu generating facility by Entergy Services, Inc. during emergencies.

Calcasieu requests that the notice requirements set forth in Rule 35.3(a) be waived to the extent required to allow the tariff to become effective as of July 29, 2000.

Comment date: September 22, 2000, in accordance with Standard Paragraph E at the end of this notice.

5. Genesee Power Station Limited Partnership

[Docket No. QF93-19-001]

Take notice that on August 25, 2000, Genesee Power Station Limited Partnership, a Michigan limited partnership, filed with the Federal Energy Regulatory Commission an amendment to its application for certification of a facility as a qualifying small power production facility pursuant to § 292.207(b) of the Commission's regulations. No determination has been made that the submittal constitutes a complete filing.

The applicant's 38 MW facility located in Genesee Township, Michigan (Facility) was self-certified in Docket No. QF93-19-000. Certification by the Commission is sought to confirm the QF status of the Facility in light of changes in certain upstream ownership interests. The Facility is interconnected with Consumers Energy Company, and Consumers Energy Company supplies all maintenance power to the Facility.

Comment date: September 25, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.,
Acting Secretary.

[FR Doc. 00-23592 Filed 9-13-00; 8:45 am]

BILLING CODE 6717-01-P